DEPARTMENT OF TRANSPORTATION

Research and Special Programs Administration

Office of Hazardous Materials Safety; Notice of Applications for Modification of Exemption

AGENCY: Research and Special Programs Administration, DOT.

ACTION: List of applications for modification of exemptions.

SUMMARY: In accordance with the procedures governing the application for, and the processing of, exemptions from the Department of Transportation's Hazardous Materials Regulations (49 CFR part 107, subpart B), notice is hereby given that the Office of Hazardous Materials Safety has received the applications described herein. This notice is abbreviated to expedite docketing and public notice. Because the sections affected, modes of transportation, and the nature of application have been shown in earlier Federal Register publications, they are not repeated here. Requests for modifications of exemptions (e.g. to provide for additional hazardous materials, packaging design changes, additional mode of transportation, etc.) are described in footnotes to the application number. Application numbers with the suffix “M” denote a modification request. These applications have been separated from the new applications for exemptions to facilitate processing.

DATES: Comments must be received on or before November 9, 2000.

ADDRESSES: Records Center, Research and Special Programs Administration, U.S. Department of Transportation, Washington, DC 20590.

Comments should refer to the application number and be submitted in triplicate. If confirmation of receipt of comments is desired, include a self-addressed stamped postcard showing the exemption number.

FOR FURTHER INFORMATION CONTACT: Copies of the applications are available for inspection in the Records Center, Nassif Building, 400 7th Street SW, Washington, DC or at http://dms.dot.gov.

This notice of receipt of applications for modification of exemptions is published in accordance with part 107 of the Federal hazardous materials transportation law (49 U.S.C. 5117(b); 49 CFR 1.53(b)).

Issued in Washington, DC, on October 19, 2000.
J. Suzanne Hedgepeth,
Director, Office of Hazardous Materials Exemptions and Approvals.

Application No. | Docket No. | Application | Modification of exemption
8698-M |  | Taylor-Wharton Gas Equipment (Div of Harsco Corp,) Theodore, AL (See Footnote 1) | 8698
11044-M |  | ChemiTech, Ltd., Des Moines, IA (See Footnote 2) | 11044
11202-M |  | Newport News Shipbuilding & Dry Dock Co., Newport News, VA (See Footnote 3) | 11202
11379-M |  | TRW Automotive Occupant Restraint Systems, Washington, MI (See Footnote 4) | 11379
11864-M | RSPA-1997-2453 | International Paper, Moss Point, MS (See Footnote 5) | 11864
12334-M | RSPA-1999-6177 | Autoclave Engineers, Erie, PA (See Footnote 6) | 12334
12442-M | RSPA-2000-7208 | Cryogenic Vessel Alternatives, La Porte, TX (See Footnote 7) | 12442
¹ To modify the exemption concerning the pressure relief value, specified retest pressure and OWTT recordkeeping requirements of non-DOT specification portable tanks transporting certain Division 2.2 materials.
² To modify the exemption to authorize the use of additional cylinders without exceeding cylinder service pressure for the transportation of a reformulated organophosphate product.
³ To modify the exemption to allow for the transportation of Division 6.1 and additional Class 8, Class 9 and Division 5.1 materials to cross a public road, from one part of a plant to another.
⁴ To modify the exemption to authorize a design change of the pressure vessel to increase the maximum fill pressure to 7,500 psi charged with non-toxic, non-liquefied gases, or mixtures thereof.
⁵ To modify the exemption to authorize party status and to include the offering of tank cars containing a residue of sulfuric acid without removing the frangible disc in the pressure relief device during inspection.
⁶ To modify the exemption to authorize the transportation of Division 2.2, Class 3, Division 6.1 and additional Division 2.1 materials in non-DOT specification cylinders.
⁷ To modify the exemption to waive the impact test requirements for stainless steel portable tanks for materials used in a lading warmer than −425 degrees.

[FR Doc. 00-27379 Filed 10-24-00; 8:45 am]

BILLING CODE 4910-60-M